ENVIRONMENTAL PROTECTION AGENCY

40 CFR Part 52

[FL-85-1-200107a; FRL-7259-6]

Approval and Promulgation of Implementation Plans; Florida: Approval of Revisions to the Florida State Implementation Plan

AGENCY: Environmental Protection Agency (EPA).

ACTION: Direct final rule.

SUMMARY: EPA is approving revisions to the Florida State Implementation Plan (SIP) submitted on August 29, 2000, by the State of Florida through the Florida Department of Environmental Protection (FDEP). This submittal consists of revisions to the ozone air quality maintenance plan for the Tampa area (Hillsborough and Pinellas Counties) to remove the emission reduction credits attributable to the Motor Vehicle Inspection Program (MVIP) from the future year emission projections contained in those plans. This revision updates the control strategy for the Tampa maintenance area by removing emissions credit for the MVIP, and as such, transportation conformity must be redetermined by the Metropolitan Planning Organizations (MPOs) within 18 months of the final approval of this document.

DATES: This direct final rule is effective October 15, 2002, without further notice, unless EPA receives relevant adverse comment by September 16, 2002. If relevant adverse comment is received, EPA will publish a timely withdrawal of the direct final rule in the Federal Register and inform the public that the rule will not take effect.

ADDRESSES: All comments should be addressed to Joey LeVasseur at the EPA, Region 4 Air Planning Branch, 61 Forsyth Street, SW, Atlanta, Georgia 30303-8960.

Copies of the State submittal are available at the following addresses for inspection during normal business hours:

Environmental Protection Agency, Atlanta Federal Center, Region 4 Air Planning Branch, 61 Forsyth Street SW., Atlanta, Georgia 30303-8960

Florida Department of Environmental Protection, Twin Towers Office Building, 2600 Blair Stone Road, Tallahassee, Florida 32399-2400

FOR FURTHER INFORMATION CONTACT: Joey LeVasseur at 404/562-9035 (e-mail: levasseur.joey@epa.gov).

SUPPLEMENTARY INFORMATION: The following sections: Background, Analysis of the State's Submittal, and Final action, provide additional information concerning the revision to the ozone air quality maintenance plan for the Tampa area to remove the emission reduction credits attributable to the MVIP from the future year emission projections contained in that plan.

I. Background

Upon enactment of the Clean Air Act Amendments of 1990, the Tampa, Florida area was designated as nonattainment for the one-hour ozone national ambient air quality standard (NAAQS) and classified as marginal. On November 16, 1992, the State of Florida submitted comprehensive inventories for volatile organic compound (VOC), oxides of nitrogen (NOX), and carbon monoxide emissions from the Tampa area. The inventories include biogenic, area, stationary, and mobile source emissions using 1990 as the base year for calculations to demonstrate NAAQS attainment and maintenance. The 1990 inventory is considered representative of attainment conditions because the one-hour ozone NAAQS was not violated during 1990. By 1993, the Tampa area was able to demonstrate attainment of the one-hour ozone NAAQS and was able to show compliance with other requirements of the Clean Air Act as amended in 1990 (CAA) for redesignation.

On February 7, 1995, the State of Florida through the FDEP requested that the Tampa area be redesignated from a marginal ozone nonattainment area to attainment. The approval of the ozone maintenance plan into the SIP, in conjunction with EPA's redesignation of the area to attainment with respect to the 1-hour ozone NAAQS, was published on December 7, 1995 (60 FR 62748), and became effective on February 5, 1996 (40 CFR 81.310).

The ozone maintenance plan for the area, developed pursuant to section 175A of the CAA and approved in the SIP, accounted for the MVIP in the mobile source emissions projections. The MVIP was a centralized basic inspection and maintenance program. The program utilized an idle emissions test to monitor vehicles' emission compliance. Due to the fact that the Tampa area was marginal, the MVIP was a voluntary program and was not required by the CAA.

II. Analysis of State's Submittal

On August 29, 2000, the FDEP submitted a revision to the SIP for the ozone air quality maintenance plan for the Tampa, Florida, area to remove the emission reduction credits attributable to the MVIP from the future year emission projections contained in that plan. Specifically this action involves a recalculation of the motor vehicle emissions budgets (budgets) for the area using the MOBILE5b model and eliminating the credit for the MVIP. The FDEP is requesting approval of amendments to the Tampa Bay maintenance plan to provide explicit transportation conformity budgets for Hillsborough and Pinellas counties. In the current maintenance plan, no budgets are specified; hence, the original year 2005 mobile source emissions projections that were made by each county are being used as transportation conformity budgets by default. The conformity process will be clarified by the establishment of specific budgets for each county in this revised maintenance plan.

The Transportation Conformity regulations, promulgated on November 24, 1993, established the criteria and procedures for determining conformity of transportation activities to the SIP. Under these provisions and Title I of the CAA, states may revise their emissions budgets at any time through the standard SIP revision process, provided that the revised emissions budgets will not adversely affect attainment and maintenance of the ozone NAAQS for any milestone year in the required time frame. The conformity rule provides states with the option to revise the emissions budgets to reallocate emissions among sources or between pollutants and their precursors so long as this budget maintains total emissions for the area below the attainment inventory levels.

In addition, the SIP revision must not have an adverse impact on maintenance of the NAAQS for any criteria pollutant. Guidance on this issue is contained in a memorandum dated September 17, 1993, from Michael Shapiro, Acting Assistant Administrator for Air and Radiation entitled, “State Implementation Plan Requirements for Areas Submitting Requests for Redesignation to Attainment of the Ozone and Carbon Monoxide National Ambient Air Quality Standards on or after November 15, 1992.” This memo states:

As a general policy, a State may not relax the adopted and implemented SIP upon the area's redesignation to attainment. States should continue to implement existing control strategies in order to maintain the standard. However, section 175A recognizes that States may be able to move SIP measures to the contingency plan upon redesignation if the State can adequately demonstrate that such action will not interfere with maintenance of the standard.

The following table contains the projected emission levels taking into account the removal of the MVIP.

Total 2.—County (Hillsborough and Pinellas Counties) Emissions Inventory Summary
[Tons per day]
Category | VOC: 1990 | VOC: 2000 | VOC: 2005 | NOX: 1990 | NOX: 2000 | NOX: 2005
Stationary Point | 17.69 | 21.49 | 21.49 | 319.74 | 190.17 | 107.25
Stationary Area | 100.19 | 114.34 | 120.13 | 9.99 | 11.48 | 12.08
On-Road Mobile | 158.50 | 86.30 | 85.10 | 121.50 | 101.00 | 95.70
Non-Road Mobile | 51.14 | 46.64 | 39.07 | 58.53 | 71.55 | 71.35
Biogenic | 194.70 | 194.70 | 194.70 | 1.80 | 1.80 | 1.80
Total | 522.22 | 463.47 | 460.49 | 511.56 | 376.00 | 288.18

The next table shows the projected 2005 VOC and NOX emissions with and without the MVIP.

Tampa Florida Area—Projected 2005 Mobile Source Emissions
[Tons per day]
County | With MVIP: VOC | With MVIP: NOX | Without MVIP: VOC | Without MVIP: NOX
Hillsborough County | 42.3 | 55.8 | 47.4 | 56.8
Pinellas County | 33.5 | 38.2 | 37.7 | 38.9
Total | 75.8 | 93.9 | 85.1 | 95.7

The projected emissions for on road mobile sources continue to be less than the level of emissions in 1990, a year for which the area was in attainment. Therefore Florida has demonstrated that the area can maintain the one-hour ozone NAAQS without the implementation of the MVIP. The EPA has reviewed the State's emissions inventory and modeling analyses and finds that they meet applicable guidance and requirements. Therefore, the State has made the necessary demonstration that the MVIP is not necessary to maintain the one-hour ozone NAAQS and that attainment of the NAAQS for any other pollutant will not be affected by removing the MVIP from the SIP. In accordance with EPA's November 15, 1992, policy, the State must include the MVIP as a contingency measure in the maintenance plan for the redesignated area, which it has done.

The following table lists the revised budgets for each county. The motor vehicle emission budgets are derived as a percentage of the 1990 on road emissions inventories. Upon final EPA approval, these budgets are to be used by the local metropolitan planning organizations and transportation authorities to assure that transportation plans, programs, and projects are consistent with, and conform to, the long-term maintenance of the NAAQS in the Tampa area.

The State is allowed to allocate up to 100 percent of the 1990 on-road emissions inventory for use as the motor vehicle emissions budget. Pursuant to 40 CFR part 51, subpart T, the Transportation Conformity rule, § 51.456(b), a specific emissions budget is here defined for the on-road mobile sources portion of the emissions inventory. These budgets are to be used by the local MPOs and transportation authorities to assure that transportation plans, programs, and projects are consistent with, and conform to, the long-term maintenance of acceptable air quality in the Tampa Bay area. Specific emissions budgets are set for VOC and NOX in the following table.

Tampa Florida Area—Motor Vehicle Emissions Budget
[Tons per day]
County | VOC | NOX
Hillsborough County | 54.05 | 71.24
Pinellas County | 33.38 | 42.01
Total | 87.43 | 113.25

The local MPOs must redetermine conformity within 18 months of the effective date for this SIP revision. This is required because the existing conformity determinations considered emission reduction credits from the MVIP control strategy.

Final Action

EPA is approving the aforementioned changes to the SIP. The EPA is publishing this rule without prior proposal because the Agency views this as a noncontroversial submittal and anticipates no adverse comments. However, in the proposed rules section of this Federal Register publication, EPA is publishing a separate document that will serve as the proposal to approve the SIP revision should adverse comments be filed. This rule will be effective October 15, 2002, without further notice unless the Agency receives adverse comments by September 16, 2002.

If the EPA receives such comments, then EPA will publish a document withdrawing the final rule and informing the public that the rule will not take effect. All public comments received will then be addressed in a subsequent final rule based on the proposed rule. The EPA will not institute a second comment period. Parties interested in commenting should do so at this time. If no such comments are received, the public is advised that this rule will be effective on October 15, 2002, and no further action will be taken on the proposed rule. Please note that if we receive adverse comment on an amendment, paragraph, or section of this rule and if that provision may be severed from the remainder of the rule, we may adopt as final those provisions of the rule that are not the subject of an adverse comment.

III. Administrative Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by October 15, 2002. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Intergovernmental relations, Nitrogen dioxide, Ozone, Reporting and recordkeeping requirements, Volatile organic compounds.

J.I. Palmer, Jr.,
Regional Administrator, Region 4.

Part 52 of chapter I, title 40, Code of Federal Regulations is amended as follows:

PART 52—[AMENDED]

1. The authority citation for part 52 continues to read as follows:

Authority: 42 U.S.C. 7401 et seq.

Subpart K—Florida

2. Section 52.520 paragraph (e) is amended by adding a new entry at the end of the table to read as follows:

§ 52.520 Identification of plan.

* * * * *

(e) EPA-approved Florida non-regulatory provisions.

Provision | State effective date | EPA approval date | Federal Register notice | Explanation
* * * * * * *
Revision to Maintenance Plan for the Tampa, Florida Area | July 9, 2000 | August 15, 2002 | [Insert cite of publication]

[FR Doc. 02-20745 Filed 8-14-02; 8:45 am]

BILLING CODE 6560-50-P